DEPARTMENT OF COMMERCE

[I.D. 112602B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Bluefin Tuna Dealer Reporting Package.

Form Number(s): NOAA Form 88-144.

OMB Approval Number: 0648-0239.

Type of Request: Regular submission.

Burden Hours: 526.

Number of Respondents: 575.

Average Hours Per Response: 2 minutes for an Atlantic daily landing report; 15 minutes for an Atlantic biweekly report; 8 minutes for a Pacific biweekly report; and 10 minutes for tagging a tuna, labeling a container, and recording a tag number.

Needs and Uses: The purpose of this collection-of-information is to comply with U.S. obligations under the Magnuson-Stevens Fishery Conservation and Management Act (16. U.S.C. 1801 et.seq.) and the Atlantic Tunas Convention Act (ATCA—16 U.S.C. 971 et. seq.). The ATCA requires the Secretary of Commerce to promulgate regulations adopted by the International Commission for the Conservation of Atlantic Tunas (ICCAT). The information collected under this clearance serves three purposes: (1) provides stock assessment and research information, (2) monitors landings so the country quota will not be exceeded, and (3) verifies Atlantic and Pacific bluefin tuna export shipments in conjunction with the Bluefin Tuna Statistical Document program. Requirements include a landing report, if certain large tuna are caught, bi-weekly reports, and tagging/labeling of fish and containers.

Affected Public: Business or other for-profit organizations.

Frequency: On occasion, bi-weekly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: November 25, 2002.
Gwellnar Banks,
Management Analyst, Office of the Chief Information Officer.

[FR Doc. 02-30457 Filed 11-29-02; 8:45 am]

BILLING CODE 3510-22-S